DEPARTMENT OF THE INTERIOR

National Park Service

[N6834; NPS-WASO-NAGPRA-NPS0041695; PPWOCRADN0-PCU00RP14.R50000]

Notice of Inventory Completion: Case Western Reserve University, Cleveland, OH

AGENCY: National Park Service, Interior.

ACTION: Notice.

SUMMARY: In accordance with the Native American Graves Protection and Repatriation Act (NAGPRA), Case Western Reserve University has completed an inventory of human remains and associated funerary objects and has determined that there is a cultural affiliation between the human remains and associated funerary objects and Indian Tribes or Native Hawaiian organizations in this notice.

DATES: Repatriation of the human remains and associated funerary objects in this notice may occur on or after February 6, 2026.

ADDRESSES: Send written requests for repatriation of the human remains and associated funerary objects in this notice to Jennifer Kangas Berendt, Case Western Reserve University, 10900 Euclid Avenue, Cleveland, OH 44106, email cwru-nagpra@case.edu.

SUPPLEMENTARY INFORMATION: This notice is published as part of the National Park Service's administrative responsibilities under NAGPRA. The determinations in this notice are the sole responsibility of Case Western Reserve University, and additional information on the determinations in this notice, including the results of consultation, can be found in its inventory or related records. The National Park Service is not responsible for the determinations in this notice.

Abstract of Information Available

Human remains representing at least 29 individuals have been identified. The five associated funerary objects are footbones of Lynx canadensis. All remains were donated to the Haman-Todd Human Collection in the early Twentieth Century. Twenty-three individuals are notated as salvage archeology from Kelley's Island Lime and Transport Company in Erie County by Dr. T.W. Todd in 1915. Three individuals are notated as salvage archaeology from Cuyahoga County by Dr. T.W. Todd. Three individuals have no identifying documentation. The identity of the individuals is unknown. No known presence of potentially hazardous materials.

Cultural Affiliation

Based on the information available and the results of consultation, cultural affiliation is reasonably identified by the geographical location or acquisition history of the human remains and associated funerary objects described in this notice.

Determinations

The Case Western Reserve University has determined that:

• The human remains described in this notice represent the physical remains of 29 individuals of Native American ancestry.

• The five objects described in this notice are reasonably believed to have been placed intentionally with or near individual human remains at the time of death or later as part of the death rite or ceremony.

• There is a connection between the human remains and associated funerary objects described in this notice and the Miami Tribe of Oklahoma; Ottawa Tribe of Oklahoma; Shawnee Tribe; and the Wyandotte Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 6, 2026. If competing requests for repatriation are received, Case Western Reserve University must determine the most appropriate requestor prior to repatriation. Requests for joint repatriation of the human remains and associated funerary objects are considered a single request and not competing requests. The Case Western Reserve University is responsible for sending a copy of this notice to the Indian Tribes and Native Hawaiian organizations identified in this notice and any other consulting parties.

Authority: Native American Graves Protection and Repatriation Act, 25 U.S.C. 3003, and the implementing regulations, 43 CFR 10.10.

Dated: December 18, 2025.
Melanie O'Brien,
Manager, National NAGPRA Program.

[FR Doc. 2026-00065 Filed 1-6-26; 8:45 am]

BILLING CODE 4312-52-P